NUCLEAR REGULATORY COMMISSION

[Docket No. 72-10-ISFSI; ASLBP No. 12-922-01-ISFSI-MLR-BD01]

Northern States Power Company (Prairie Island Nuclear Generating Plant Independent Spent Fuel Storage Installation); Notice of Atomic Safety and Licensing Board Reconstitution

Pursuant to 10 CFR 2.313(c) and 2.321(b), the Atomic Safety and Licensing Board (Board) in the above-captioned Prairie Island ISFSI license renewal proceeding is hereby reconstituted by appointing Administrative Judge Nicholas G. Trikouros to serve on the Board in place of Administrative Judge Robert B. Matthews.

All correspondence, documents, and other materials shall continue to be filed in accordance with the NRC E-Filing rule. See 10 CFR 2.302 et seq.

Issued at Rockville, Maryland, October 22, 2012.
E. Roy Hawkens,
Chief Administrative Judge, Atomic Safety and Licensing Board Panel.

[FR Doc. 2012-26383 Filed 10-25-12; 8:45 am]

BILLING CODE 7590-01-P